OFFICE OF THE UNITED STATES TRADE REPRESENTATIVE

Notice of Meeting of the Industry Sector Advisory Committee on Services (ISAC-13)

AGENCY: Office of the United States Trade Representative.

ACTION: Notice of meeting.

SUMMARY: The Industry Sector Advisory Committee on Services will hold a meeting on December 12, 2000, from 9 a.m. to 12 noon. The meeting will be opened to the public from 9 a.m. to 10 a.m., and closed to the public from 10 a.m. to 12 noon.

DATES: The meeting is scheduled for December 12, 2000, unless otherwise notified.

ADDRESSES: The meeting will be held at the Department of Commerce, Conference Room 1414, located at 14th Street between Pennsylvania and Constitution Avenues, NW., Washington, DC.

FOR FURTHER INFORMATION CONTACT: Karen Holderman, (202) 482-0345, Department of Commerce, 14th Street and Constitution Avenue, NW., Washington, DC 20230 (principal contact), or Dominic Bianchi, Office of the United States Trade Representative, 1724 F Street, NW., Washington, DC 20508, (202) 395-6120.

SUPPLEMENTARY INFORMATION: During the opened portion of the meeting the “Status Report on WTO General Agreement on Trade in Services (GATS) Work Program and Preparation for Future GATS Negotiating Meetings” will be discussed.

Dominic Bianchi,
Acting Assistant United States Trade Representative for Intergovernmental Affairs and Public Liaison.

[FR Doc. 00-31141 Filed 12-6-00; 8:45 am]

BILLING CODE 3190-01-M